DEPARTMENT OF TRANSPORTATION

Federal Aviation Administration

Notice of Intent to rule on Application (01-14-C-00-CHO) To Use the Revenue From A Passenger Facility Charge (PFC) at Charlottesville-Albemarle Airport, Charlottesville, Virginia

AGENCY: Federal Aviation Administration (FAA), DOT.

ACTION: Notice of Intent to Rule on Application.

SUMMARY: The FAA proposes to rule and invites public comment on the application to impose and use the revenue from a passenger facility charge (PFC) at Charlottesville-Albemarle Airport under the provisions of the Aviation Safety and Capacity Expansion Act of 1990 (Title IX of the Omnibus Budget Reconciliation Act of 1990) (Pub. L. 101-508) and part 158 of the Federal Aviation Regulations (14 CFR part 158).

DATES: Comments must be received on or before July 5, 2001.

ADDRESSES: Comments on this application may be mailed or delivered in triplicate to the FAA at the following address: Arthur Winder, Project Manager, Washington Airports District Office, 23723 Air Freight Lane, Suite 210, Dulles, VA 22016.

In addition, one copy of any comments submitted to the FAA must be mailed or delivered to Bryan O. Elliott, Director of Aviation, of the Charlottesville-Albemarle Airport Authority at the following address: Charlottesville-Albemarle Airport, 201 Bowen Loop, Charlottesville, Virginia 22901.

Air carriers and foreign air carriers may submit copies of written comments previously provided to the Charlottesville-Albemarle Airport Authority under § 158.23 of part 158.

FOR FURTHER INFORMATION CONTACT: Arthur Winder, Program Manager, Wahington Airports District Office, 23723 Air Freight Lane, Suite 210, Dulles, VA 22016, (703) 661-1363. The application may be reviewed in person at this same location.

SUPPLEMENTARY INFORMATION: The FAA proposes to rule and invites public comment on the application to impose and use the revenue from a PFC at Charlottesville-Albemarle Airport under the provisions of the Aviation Safety and Capacity Expansion Act of 1990 (Title IX of the Omnibus Budget Reconciliation Act of 1990) (Pub. L. 101-508) and part 158 of the Federal Aviation Regulations (14 CFR part 158).

On May 10, 2001, the FAA determined that the application to impose and use the revenue from a PFC submitted by Charlottesville-Albemarle Airport Authority was substantially complete within the requirements of § 158.25 of part 158. The FAA will approve or disapprove the application, in whole or in part, no later than August 15, 2001.

The following is a brief overview of the application.

PFC Application No.: 01-14-C-00-CHO.

Level of the proposed PFC: $3.00.

Proposed charge effective date: July 1, 2004.

Proposed charge expiration date: January 1, 2005.

Total estimated PFC revenue: $220,000.

Brief description of proposed project(s):

Extend Runway 3 Safety Area, Phase III (Impose & Use)

PFC Project Administration Fees (Impose & Use)

Air Carrier Terminal Refurbishment (Design) Phase II (Impose & Use)

Acquire Snow Removal Equipment Carrier Vehicle (Impose & Use)

Class or classes of air carriers which the public agency has requested not be required to collect PFCs: Air Taxi/Commercial Operators filing FAA Form 1800-31 and foreign air carriers.

Any person may inspect the application in person at the FAA office listed above under FOR FURTHER INFORMATION CONTACT and at the FAA regional Airports Office located at: Federal Aviation Administration, Airports Division, AEA-610, 1 Aviation Plaza, Jamaica, NY 11434-4809.

In addition, any person may, upon request, inspect the application, notice and other documents germane to the application in person at the Charlottesville-Albemarle Airport.

Issued in Dulles, Va. 22016, May 24, 2001.
Terry J. Page,
Manager, Washington Airports District Office.

[FR Doc. 01-14109 Filed 6-4-01; 8:45 am]

BILLING CODE 4910-13-M